DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995 this notice announces the intention of the National Agricultural Statistics Service (NASS) to seek approval to conduct a new information collection for surveys funded by NASS's many cooperators (Federal agencies, State governments, land grant universities, and other organizations). Results from these surveys are important for the cooperators in carrying out their missions, as well as of general interest to the agricultural community. This generic clearance will allow NASS to conduct surveys in a timely manner for the cooperating institutions providing funding for the surveys.

DATES: Comments on this notice must be received by February 8, 2019 to be assured of consideration.

ADDRESSES: You may submit comments, identified by docket number 0535-NEW, by any of the following methods:

• Email: ombofficer@nass.usda.gov. Include docket number above in the subject line of the message.

• E-fax: 855-838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, 202-720-4333. Copies of this information collection and related instructions can be obtained without charge from David Hancock, NASS—OMB Clearance Officer, at 202-690-2388 or at ombofficer@nass.usda.gov.

SUPPLEMENTARY INFORMATION:

Title: Quick Response for Cooperator-Funded Surveys Generic Clearance.

OMB Control Number: 0535-NEW.

Type of Request: Intent to seek approval to conduct a new information collection for a period of three years.

Abstract: The primary objective of the National Agricultural Statistics Service (NASS) is to collect, prepare, and issue state and national estimates of crop and livestock production, prices, and disposition; as well as economic statistics, environmental statistics related to agriculture; and also to conduct the Census of Agriculture. In addition, NASS has many cooperators from other Federal agencies, State governments, land grant universities, and other organizations that seek NASS's assistance in collecting agricultural data through surveys. Results from these surveys are important for the cooperators in carrying out their missions, as well as of general interest to the agricultural community. Results from these surveys will be made available to the public by NASS or the cooperators who fund them. This generic clearance seeks approval for NASS to conduct a variety of agricultural surveys which will be paid for entirely by cooperators. NASS anticipates the cooperator-funded surveys will cover topics such as: (1) Farm management practices, (2) food safety, (3) workplace safety, (4) conservation and land use practices, (5) chemical use management practices, (6) crop quality, (7) agri-tourism, (8) local foods, and (9) other agricultural-related topics. This generic clearance is subject to the regular clearance process at OMB with a 60-day notice and a 30-day notice as part of the 120-day review period. Each individual cooperator-funded survey is then subject to a clearance process with an abbreviated clearance package which justifies the particular content of the survey, describes the sample design, provides the timeline for the survey activities, and the questionnaire. The review period for each individual survey is approximately 45 days, including a 30-day Federal Register notice period.

Authority: These data will be collected under authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-113, 44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this information collection is estimated to average 30 minutes per response. Up to 15 individual surveys are included in this generic clearance to be conducted annually. The estimated sample size for each of the 15 surveys is approximately 5,000. Each of the 15 surveys are expected to be conducted once annually. The estimated number of responses per respondent is 1. Publicity materials and instruction sheets will account for approximately 5 minutes of additional burden per respondent. Respondents who refuse to complete a survey will be allotted 2 minutes of burden per attempt to collect the data. NASS will conduct the surveys initially by mail and/or internet with phone follow-up for non-response. Face-to-face interviews may also be used in limited situations.

Respondents: Farmers and ranchers, and others associated with the agricultural industry.

Estimated Number of Respondents: 225,000.

Frequency of Responses: Once annually for each individual survey.

Estimated Total Burden on Respondents: The total estimated burden is 112,000 hours.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological, or other forms of information technology collection methods.

All responses to this notice will become a matter of public record and be summarized in the request for OMB approval.

Signed at Washington, DC, November 26, 2018.
Kevin L. Barnes,
Associate Administrator.

[FR Doc. 2018-26657 Filed 12-7-18; 8:45 am]

BILLING CODE 3410-20-P